FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than March 31, 2010.

A. Federal Reserve Bank of Richmond (A. Linwood Gill, III, Vice President) 701 East Byrd Street, Richmond, Virginia 23261-4528:>

1. Peden B. McLeod, Mary H. McLeod, John R. McLeod, all of Walterboro, South Carolina; Peden B. McLeod, Jr., Mt. Pleasant, South Carolina; Mary C. Benson, Columbia, South Carolina; and Rhoda L. Perry, Hendersonville, North Carolina; acting in concert to retain voting shares of Communitycorp, and thereby indirectly retain voting shares of Bank of Walterboro, both of Walterboro, South Carolina.

B. Federal Reserve Bank of St. Louis (Glenda Wilson, Community Affairs Officer) P.O. Box 442, St. Louis, Missouri 63166-2034:

1. First State Bancorp, Inc. Employee Stock Ownership Plan (Irvin G. Waller and Duane S. Michie as trustees), all of Caruthersville, Missouri; to acquire voting shares of First State Bancorp, Inc., and thereby indirectly acquire voting shares of First State Bank and Trust Company, both of Caruthersville, Missouri.

Board of Governors of the Federal Reserve System, March 11, 2010.
Jennifer J. Johnson,
Secretary of the Board.

[FR Doc. 2010-5686 Filed 3-15-10; 8:45 am]

BILLING CODE 6210-01-S